OFFICE OF SCIENCE AND TECHNOLOGY POLICY

Aeronautics Science and Technology Subcommittee; Committee on Technology; National Science and Technology Council

ACTION: Notice of Meeting—Public input is requested to assist in the development of the draft National Aeronautics Research, Development, Test and Evaluation (RDT&E) Infrastructure Plan.

SUMMARY: The Aeronautics Science and Technology Subcommittee (ASTS) of the National Science and Technology Council's (NSTC) Committee on Technology will hold a public meeting. At this meeting, ASTS members will present highlights of the recently published 2010 National Aeronautics Research and Development Plan. The proposed structure and draft content (to date) of the National Aeronautics RDT&E Infrastructure Plan will then be discussed, and participants will be invited to provide input to help inform further development of the draft National Aeronautics RDT&E Infrastructure Plan.

Dates and Addresses: The meeting will be held in conjunction with the 46th AIAA/ASME/SAE/ASEE Joint Propulsion Conference & Exhibit, Nashville Convention Center, 601 Commerce Street, Nashville, TN 37203 on Wednesday, July 28, 2010, from 2:30 p.m. to 4:30 p.m., in Room 201. Information regarding the 46th AIAA/ASME/SAE/ASEE Joint Propulsion Conference & Exhibit is available at the: http://www.aiaa.org Web site.

Note: Persons solely attending this ASTS public meeting do not need to register for the 46th Joint Propulsion Conference and Exhibit to attend this public meeting. There will be no admission charge for persons solely attending the public meeting. Seating is limited and will be on a first come, first served basis.

FOR FURTHER INFORMATION CONTACT: Additional information and links to E.O. 13419, the National Aeronautics Research and Development Policy, and the 2010 National Aeronautics Research and Development Plan are available by visiting the Office of Science and Technology Policy's NSTC Web site at: http://www.whitehouse.gov/administration/eop/ostp/nstc/aero or by calling 202-456-6012.

SUPPLEMENTARY INFORMATION: E.O. 13419 and the National Aeronautics Research and Development Policy call for executive departments and agencies conducting aeronautics research and development (R&D) to engage industry, academia, and other non-Federal stakeholders in support of government planning and performance of aeronautics R&D. The desired outcomes of the meeting are to relay highlights of the 2010 National Aeronautics Research and Development Plan and to solicit comments and information from individuals on the aeronautics RDT&E infrastructure necessary for inclusion in the draft National Aeronautics RDT&E Infrastructure Plan to support achievement of the goals and objectives contained in the 2010 National Aeronautics Research and Development Plan.

Ted Wackler,
Deputy Chief of Staff.

[FR Doc. 2010-15581 Filed 6-25-10; 8:45 am]

BILLING CODE 3170-W0-P